FEDERAL COMMUNICATIONS COMMISSION

Notice of Public Information Collection(s) Being Reviewed by the Federal Communications Commission, Comments Requested

Correction

In notice document 00-30802 beginning on page 75701 in the issue of Monday, December 4, 2000, make the following correction:

On page 75701, in the second column, in the DATES section, in the second line, “January 3, 2001” should read “February 2, 2001.”.

[FR Doc. C0-30802 Filed 12-21-00; 8:45 am]

BILLING CODE 1505-01-D

NUCLEAR REGULATORY COMMISSION

10 CFR Part 32

RIN 3150-AG03

Requirements for Certain Generally Licensed Industrial Devices Containing Byproduct Material

Correction

In rule document 00-31873 beginning on page 79162 in the issue of Monday, December 18, 2000, make the following correction:

§32.51a [Corrected]

On page 79189, in the third column, in §32.51a(d), in the second line, “(insert date 1 year after the effective date of this rule)” should read “February 19, 2002”.

[FR Doc. C0-31873 Filed 12-21-00; 8:45 am]

BILLING CODE 1505-01-D

DEPARTMENT OF TRANSPORTATION

Federal Aviation Administration

14 CFR Part 450

[Docket No. FAA 1999-6265; Amendment No. 450-1]

RIN 2120-AG76

Financial Responsibility Requirements for Licensed Reentry Activities

Correction

In rule document 00-22565 beginning on page 56670 in the issue of Tuesday, September 19, 2000, make the following correction:

§450.3 [Corrected]

1. On page 56700, in the first column, in §450.3(a), in the definition of ÿ7EMaximum probable loss (MPL), in the paragraph designated as (1), in the third line, “participant's” should read “partcipants'”.

§450.9 [Corrected]

2. On page 56701, in the second column, in §450.9(f), in the second line, before “licensee” add “a”.

§450.13 [Corrected]

3. On the same page, in the third column, in §450.13(a)(3), in the eighth line, after “in” add “an”. And in the 10th line, after “funds” remove the comma.

§450.15 [Corrected]

4. On page 56702, in the first column, in §450.15(a)(2), in the second line, “lest” should read “least”.

5. On the same page, in the second column, in §450.15(b), in the third line, “all” should read “and”.

6. On the same page, in the same column, in §450.15(c)(1)(ii), in the fourth line, “insures” should read “insurers”. And in the ninth line, “an” should read “and”.

§450.17 [Corrected]

7. On the same page, in the third column, in §450.17(d), in the 13th line, after “out” add “of”.

8. On page 56704, in the first column, in the appendix A to part 450, in the paragraph designated as C.3., in the third line, “license” should read “licensed”.

Appendix B to Part 450 [Corrected]

9. On page 56705, in the first column, in the appendix B to part 450, in the paragraph designated as (c), in the 18th line, after “responsibility ” add “required”. And in the 19th line, before “450.9(c)” add “§”.

10. On the same page, in the same column, in the same appendix, in the last paragraph, in the 11th line, “form” should read “from ”.

11. On the same page, in the second column, in the same appendix, in the sixth line, “450.9(e)” should read “450.9(e))”

[FR Doc. C0-22565 Filed 12-21-00; 8:45 am]

BILLING CODE 1505-01-D